DEPARTMENT OF TRANSPORTATION

Federal Aviation Administration

14 CFR Part 39

[Docket No. FAA-2007-28355; Directorate Identifier 2007-NM-062-AD; Amendment 39-15495; AD 2008-09-14]

RIN 2120-AA64

Airworthiness Directives; Boeing Model 737-600, -700, -700C, -800 and -900 Series Airplanes

AGENCY: Federal Aviation Administration (FAA), DOT.

ACTION: Final rule.

SUMMARY: We are adopting a new airworthiness directive (AD) for certain Boeing Model 737-600, -700, -700C, -800 and -900 series airplanes. This AD requires inspecting ground blocks GD261 and GD264 for corrosion, measuring the electrical bond resistance between the ground blocks and the airplane structure, separating the ground wires for the fuel boost pump circuit between ground blocks GD261 and GD264, and doing corrective actions if necessary. This AD results from a report of random flashes of the six fuel pump low pressure lights and intermittent operation of the fuel boost pumps. We are issuing this AD to prevent the simultaneous malfunction of all six fuel boost pumps, which could cause the engines to operate on suction feed and potentially flame out.

DATES: This AD is effective June 6, 2008.

The Director of the Federal Register approved the incorporation by reference of a certain publication listed in this AD as of June 6, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Binh Tran, Aerospace Engineer, Systems and Equipment Branch, ANM-130S, FAA, Seattle Aircraft Certification Office, 1601 Lind Avenue, SW., Renton, Washington 98057-3356; telephone (425) 917-6485; fax (425) 917-6590.

SUPPLEMENTARY INFORMATION:

Discussion

We issued a notice of proposed rulemaking (NPRM) to amend 14 CFR part 39 to include an airworthiness directive (AD) that would apply to certain Boeing Model 737-600, -700, -700C, -800 and -900 series airplanes. That NPRM was published in the Federal Register on June 6, 2007 (72 FR 31202). That NPRM proposed to require inspecting ground blocks GD261 and GD264 for corrosion, measuring the electrical bond resistance between the ground blocks and the airplane structure, separating the ground wires for the fuel boost pump circuit between ground blocks GD261 and GD264, and doing corrective actions if necessary.

Comments

We gave the public the opportunity to participate in developing this AD. We have considered the comments received.

Support for the NPRM

AirTran Airways supports the NPRM.

Request to Incorporate Revised Service Bulletin

The NPRM referred to Boeing Special Attention Service Bulletin 737-28-1257, dated February 26, 2007, as the appropriate source of service information for the proposed requirements. Boeing requests that we revise the NPRM to refer to Revision 1 of the service bulletin, which Boeing issued after we issued the NPRM.

We have reviewed the revised service bulletin. In Revision 1, dated November 28, 2007, Boeing removed certain annunciator checks, updated temperature control operational test instructions, and removed certain wire separation requirements. Revision 1 provides no substantive changes or additional work. We agree to revise the final rule to require Revision 1, and to provide credit for the original version.

Conclusion

We reviewed the relevant data, considered the comments received, and determined that air safety and the public interest require adopting the AD with the changes described previously. We also determined that these changes will not increase the economic burden on any operator or increase the scope of the AD.

Costs of Compliance

There are about 1,871 airplanes of the affected design in the worldwide fleet. The following table provides the estimated costs for U.S. operators to comply with this AD.

Estimated Costs
Work hours | Average labor rate per hour | Parts | Cost per airplane | Number of U.S.-registered airplanes | Fleet cost
1 | $80 | None | $80 | 702 | $56,160

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, (2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-09-14 Boeing: Amendment 39-15495. Docket No. FAA-2007-28355; Directorate Identifier 2007-NM-062-AD.

Effective Date

(a) This airworthiness directive (AD) is effective June 6, 2008.

Affected ADs

(b) None.

Applicability

(c) This AD applies to Boeing Model 737-600, -700, -700C, -800 and -900 series airplanes, certificated in any category, as identified in Boeing Special Attention Service Bulletin 737-28-1257, Revision 1, dated November 28, 2007.

Unsafe Condition

(d) This AD results from a report of random flashes of the six fuel pump low pressure lights and intermittent operation of the fuel boost pumps. We are issuing this AD to prevent the simultaneous malfunction of all six fuel boost pumps, which could cause the engines to operate on suction feed and potentially flame out.

Compliance

(e) You are responsible for having the actions required by this AD performed within the compliance times specified, unless the actions have already been done.

Inspection

(f) Within 24 months after the effective date of this AD: Do a general visual inspection of ground blocks GD261 and GD264 for corrosion, measure the electrical bond resistance, and separate the ground wires for the fuel boost pump circuit between ground blocks GD261 and GD264. Do these actions in accordance with the Accomplishment Instructions of Boeing Special Attention Service Bulletin 737-28-1257, Revision 1, dated November 28, 2007. Do applicable corrective actions before further flight in accordance with the service bulletin.

Credit for Actions in Accordance With Previous Service Information

(g) Actions accomplished before the effective date of this AD in accordance with Boeing Special Attention Service Bulletin 737-28-1257, dated February 26, 2007, are acceptable for compliance with the corresponding requirements of this AD.

Alternative Methods of Compliance (AMOCs)

(h)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Boeing Special Attention Service Bulletin 737-28-1257, Revision 1, dated November 28, 2007, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue SW., Renton, Washington; or at the National Archives and Records Administration (NARA). For information on the availability of this material at NARA, call 202-741-6030, or go to: http://www.archives.gov/federal_register/code_of_federal_regulations/ibr_locations.html.

Issued in Renton, Washington, on April 18, 2008.
Ali Bahrami,
Manager, Transport Airplane Directorate, Aircraft Certification Service.

[FR Doc. E8-9310 Filed 5-1-08; 8:45 am]

BILLING CODE 4910-13-P